DEPARTMENT OF HOMELAND SECURITY

U.S. Citizenship and Immigration Services

Agency Information Collection Activities: Form I-601, Extension of a Currently Approved Information Collection; Comment Request

ACTION: 60-Day Notice of Information Collection Under Review: Form I-601, Application for Waiver of Grounds of Inadmissibility; OMB Control Number 1615-0029.

On November 30, 2010, USCIS published a 60-day notice in the Federal Register at 75 FR 74071, mistakenly announcing the revision of the Form I-601. The 60-day notice should have announced that USCIS was requesting comments on extending the use of the Form I-601. This notice corrects that error. However, during this 60 day period, USCIS will be evaluating whether to revise the Form I-601. Should USCIS decide to revise Form I-601 we will advise the public when we publish the 30-day notice in the Federal Register in accordance with the Paperwork Reduction Act. The public will then have 30 days to comment on any revisions to the Form I-601.

The Department of Homeland Security, U.S. Citizenship and Immigration Services will be submitting the following information collection request for review and clearance in accordance with the Paperwork Reduction Act of 1995. The information collection is published to obtain comments from the public and affected agencies. Comments are encouraged and will be accepted for sixty days until February 7, 2011.

Written comments and suggestions regarding items contained in this notice and especially with regard to the estimated public burden and associated response time should be directed to the Department of Homeland Security (DHS), USCIS, Chief, Regulatory Products Division, Clearance Office, 20 Massachusetts Avenue, NW., Suite 5012, Washington, DC 20529-2020. Comments may also be submitted to DHS via facsimile to 202-272-0997, or via e-mail at rfs.regs@dhs.gov. When submitting comments by e-mail, please add the OMB Control Number 1615-0029 in the subject box.

Note: The address listed in this notice should only be used to submit comments concerning the extension of the Form I-601. Please do not submit requests for individual case status inquiries to this address. If you are seeking information about the status of your individual case, please check “My Case Status” online at https://egov.uscis.gov/cris/Dashboard, or call the USCIS National Customer Service Center at 1-800-375-5283 (TTY 1-800-767-1833).

Written comments and suggestions from the public and affected agencies concerning the collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Application for Waiver of Grounds of Inadmissibility.

(3) Agency form number, if any, and the applicable component of the Department of Homeland Security sponsoring the collection: Form I-601. U.S. Citizenship and Immigration Services.

(4) Affected public who will be asked or required to respond, as well as a brief abstract: Primary: Individuals or Households. The information collected on this form is used by U.S Citizenship and Immigration Services (USCIS) to determine whether the applicant is eligible for a waiver of excludability under section 212 of the Immigration and Nationality Act.

(5) An estimate of the total number of respondents and the amount of time estimated for an average respondent to respond: 13,676 responses at 1½ hours per response.

(6) An estimate of the total public burden (in hours) associated with the collection: 20,514 annual burden hours.

If you have additional comments, suggestions, or need a copy of the information collection instrument, please visit: http://www.regulations.gov/search/index.jsp.

We may also be contacted at: USCIS, Regulatory Products Division, 20 Massachusetts Avenue, NW., Suite 5012, Washington, DC 20529-2020, telephone number 202-272-8377.

Dated: December 3, 2010.
Stephen Tarragon,
Acting Chief, Regulatory Products Division, U.S. Citizenship and Immigration Services, Department of Homeland Security.

[FR Doc. 2010-30914 Filed 12-8-10; 8:45 am]

BILLING CODE 9111-97-P